DEPARTMENT OF LABOR

Office of the Secretary

Submission for OMB Review; Comment Request

November 18, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 (this is not a toll-free number) or E-Mail king.darrin@dol.gov.

Comments should be sent to Office of Information and Regulatory Affairs, Attn: OMB Desk Officer for the Employee Benefits Security Administration (EBSA), Office of Management and Budget, Room 10235, Washington, DC 20503 (202) 395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Employee Benefits Security Administration.

Type of Review: Extension of a currently approved collection.

Title: Annual Report for Multiple Employer Welfare Arrangements and Certain Entities Claiming Exception.

OMB Number: 1210-0116.

Affected Public: Business or other for-profit; Not-for-profit institutions; and Individuals or households.

Frequency: Annually.

Type of Response: Reporting.

Number of Respondents: 741.

Number of Annual Responses: 3,718.

Estimated Time Per Response: Varies from 2 hours and 50 minutes for fully insured filers to 3 hours and 35 minutes for filers not fully insured.

Total Burden Hours: 564.

Total Annualized Capital/Startup Costs: $0.

Total Annual Costs (operating/maintaining systems or purchasing services): $348,997.

Description: The Health Insurance Portability and Accountability Act of 1996 (HIPAA), codified as part 7 of Title I of the Employee Retirement Security Act of 1974 (ERISA), was enacted to improve the portability and continuity of health care coverage for participants and beneficiaries of group health plans. In the interest of assuring compliance with part 7, HIPAA also added section 101(g) to ERISA permitting the Secretary of Labor (the Secretary) to require multiple employer welfare arrangements (MEWA) as defined in section 3(40) of ERISA to report to the Secretary in such form and manner as the Secretary might determine. Under 29 CFR 2520.101-2, Form M-1 is required to be filed by MEWAs and by other entities described in the regulation. The purpose of the information collection is to provide the Secretary with information to determine the extent to which the requirements of part 7 of ERISA are being carried out in connection with the provision of benefits consisting of medical care.

Ira L. Mills,
Departmental Clearance Officer

[FR Doc. 03-29364 Filed 11-21-03; 8:45 am]

BILLING CODE 4510-29-M